DEPARTMENT OF TRANSPORTATION

Pipeline and Hazardous Materials Safety Administration

Hazardous Materials: Notice of Applications for Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before October 9, 2018.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on August 31, 2018.
Donald P. Burger,
Chief, General Approvals and Permits Branch.

Application No. | Applicant | Regulation(s) affected | Nature of the special permits thereof
SPECIAL PERMITS DATA—Granted
11054-M | WELKER, INC | 173.301(f)(2), 173.302a(a)(1), 173.304a(d)(3)(i), 173.201(c), 173.203(c), 177.840(a)(1) | To modify the special permit to authorize a new high pressure sample cylinder.
13301-M | UNITED TECHNOLOGIES CORPORATION | 172.200, 172.400, 172.300 | To modify he special permit to authorize the transportation in commerce of certain hazardous materials for a distance of approximately 2400 feet without proper hazard communication.
20419-M | INSITU, INC | 173.185(a) | To modify the special permit to authorize additional hazmat.
20546-M | DEPARTMENT OF DEFENSE (MILITARY SURFACE DEPLOYMENT & DISTRIBUTION COMMAND) | 173.159(d), 173.159(k) | To modify the special permit to authorize the transportation in commerce of batteries in boxes as strong outer packagings.
20612-N | WILCO MACHINE & FAB, INC | 178.345-7(a)(1) | To authorize the transportation in commerce of hydrochloric acid in transport trailers whose support ribs exceed the 60 inch maximum separation distance.
20618-N | NATIONAL AERONAUTICS AND SPACE ADMINISTRATION | 172.400, 172.300, 173.1 | To authorize the transportation in commerce of explosives contained in spacecraft by motor vehicle.
20620-N | SOUTHERN STATES, LLC | 173.302(a) | To authorize the manufacture, mark, sale, and use of non-DOT specification pressure receptacles containing sulfur hexafluoride.
20631-N | AMERICASE, LLC | 172.400, 172.200, 172.300, 173.185(f) | To authorize the transportation in commerce of more than one damaged/defective lithium battery in a single fiberboard outer packaging.
20633-N | SPACEFLIGHT, INC | 173.185(a) | To authorize the transportation in commerce of low production lithium ion batteries contained in equipment via cargo-only aircraft.
20639-N | ICC THE COMPLIANCE CENTER INC | 172.700(a), 172.400, 172.200, 172.300, 173.185(f) | To authorize the manufacture, mark, sale, and use of alternative packaging for the transport of damaged, defective, and recalled batteries.
20653-N | JOHNSON CONTROLS, INC | 173.185(b) | To authorize the transportation in commerce of lithium ion batteries in alternative packaging.
20668-N | NUVATION RESEARCH CORPORATION | 173.185(b) | To authorize the transportation of lithium ion batteries in alternative packaging.
20669-N | LOUISIANA ENERGY SERVICES, LLC | 173.420 | To authorize the transportation in commerce of 48Y Uranium Hexafluoride cylinders which do not conform to ANSI N14.1-2012 specification for the cylinder valve cap gasket.
20677-N | DEPARTMENT OF DEFENSE (MILITARY SURFACE DEPLOYMENT & DISTRIBUTION COMMAND) | 173.302(a) | To authorize the transportation in commerce of certain Division 2.2 hazardous materials in non-DOT specification cylinders.
20682-N | HILLWOOD AIRWAYS, LLC | 172.101(j), 173.27(b)(2), 175.30(a)(1) | To authorize the transportation in commerce of certain explosives which are forbidden by cargo only aircraft.
SPECIAL PERMITS DATA—Denied
13173-M | LUXFER CANADA LIMITED | 101, 302A | To modify the special permit to authorize additional cylinder design part numbers.
SPECIAL PERMITS DATA—Withdrawn
20652-N | AMETEK AMERON, LLC |  | To authorize the manufacture, mark, sale, and use of non-DOT specification cylinders.
20675-N | COLEP PORTUGAL, S.A | 178.33-7(a) | To authorize the manufacture, mark, sale, and use of non-DOT specification receptacles similar to 2Q receptacles with a reduced wall thickness.

[FR Doc. 2018-19308 Filed 9-5-18; 8:45 am]

BILLING CODE 4909-60-P